SMALL BUSINESS ADMINISTRATION

[Disaster Declaration #20674 and #20675; NEW YORK Disaster Number NY-20018]

Presidential Declaration of a Major Disaster for Public Assistance Only for the State of New York

AGENCY: U.S. Small Business Administration.

ACTION: Notice.

SUMMARY: This is a Notice of the Presidential declaration of a major disaster for Public Assistance Only for the State of New York (FEMA-4825-DR), dated September 24, 2024.

DATES: Issued on September 24, 2024.

Physical Loan Application Deadline Date: November 25, 2024.

Economic Injury (EIDL) Loan Application Deadline Date: June 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street, SW, Suite 6050, Washington, DC 20416, (202) 205-6734.

SUPPLEMENTARY INFORMATION: Notice is hereby given that as a result of the President's major disaster declaration on September 24, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

Incident: Remnants of Tropical Storm Debby.

Incident Period: August 8, 2024 through August 10, 2024.

The following areas have been determined to be adversely affected by the disaster:

Primary Counties: Allegany, Broome, Delaware, Essex, Franklin, Jefferson, Ontario, St. Lawrence, Steuben, Yates.

The Interest Rates are:

| Percent
For Physical Damage:
Non-Profit Organizations with Credit Available Elsewhere | 3.250
Non-Profit Organizations without Credit Available Elsewhere | 3.250
For Economic Injury: |
Non-Profit Organizations without Credit Available Elsewhere | 3.250

The number assigned to this disaster for physical damage is 206748 and for economic injury is 206750.

(Catalog of Federal Domestic Assistance Number 59008)

Francisco Sánchez, Jr.,
Associate Administrator, Office of Disaster Recovery & Resilience.

[FR Doc. 2024-22725 Filed 10-1-24; 8:45 am]

BILLING CODE 8026-09-P